DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Standards and Security.

Time and Date: 9:00 a.m. to 5:00 p.m., June 26, 2001.

Place: Renaissance Hotel, 999 9th Street, NW., Washington, DC, (202) 898-9000.

Status: Open.

Purpose: At this working session, the Subcommittee on Standards and Security will complete their assessment of the modifications to transaction standards and final rules recommended by the Designated Standards Maintenance Organizations, and of general industry HIPAA readiness. Recommendations to the Secretary will be drafted for full committee review.

Contact person for more information: Substantive program information as well as summaries of meetings and a roster of committee members may be obtained from J. Michael Fitzmaurice, Ph.D., Senior Science Advisor for Information Technology, Agency for Health Care Research and Quality, 2101 East Jefferson Street, #600, Rockville, MD 20852, phone: (301) 594-3938; or Marjorie S. Greensberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/ where an agenda for the meeting will be posted when available.

Dated: June 7, 2001.
James Scanlon,
Director, Division of Data Policy, Office of the Assistant Secretary for Planning and Evaluation.

[FR Doc. 01-15364 Filed 6-18-01; 8:45 am]

BILLING CODE 4151-05-M